DEPARTMENT OF AGRICULTURE

Animal and Plant Health Inspection Service

7 CFR Part 301

[Docket No. APHIS-2007-0051]

Mexican Fruit Fly; Removal of Quarantined Area

AGENCY: Animal and Plant Health Inspection Service, USDA.

ACTION: Affirmation of interim rule as final rule.

SUMMARY: We are adopting as a final rule, without change, an interim rule that amended the regulations by removing a portion of Webb County, TX, from the list of quarantined areas and by removing restrictions on the interstate movement of regulated articles from that area. The interim rule was necessary to relieve restrictions that were no longer needed to prevent the spread of the Mexican fruit fly into noninfested areas of the United States.

DATES: Effective on September 24, 2007, we are adopting as a final rule the interim rule published at 72 FR 34595-34596 on June 25, 2007.

FOR FURTHER INFORMATION CONTACT: Mr. Wayne Burnett, Domestic Coordinator, Fruit Fly Exclusion and Detection, PPQ, APHIS, 4700 River Road Unit 36, Riverdale, MD 20737-1231; (301) 734-4387.

SUPPLEMENTARY INFORMATION:

Background

In an interim rule ¹ effective and published in the Federal Register on May 18, 2007 (72 FR 27949-27951, Docket No. APHIS-2007-0051), we amended the Mexican fruit fly regulations contained in 7 CFR 301.64 through 301.64-10 (referred to below as the regulations) by quarantining a portion of Webb County, TX, and restricting the interstate movement of regulated articles from the quarantined area. The May 2007 interim rule was necessary to prevent the spread of Mexican fruit fly into noninfested areas of the United States. Comments on the interim rule were required to be received on or before July 17, 2007. We did not receive any comments.

¹ To view the interim rules, go to http://www.regulations.gov/fdmspublic/component/main?main=DocketDetail&d=APHIS-2007-0051.

In a second interim rule effective June 18, 2007, and published in the Federal Register on June 25, 2007 (72 FR 34595-34596, Docket No. APHIS-2007-0051), we amended the regulations by removing Webb County, TX, from the list of quarantined areas in § 301.64-3(c). That action relieved restrictions that were no longer necessary on the interstate movement of regulated articles from this area. Comments on the interim rule were required to be received on or before August 24, 2007. We did not receive any comments. Therefore, for the reasons given in the interim rule, we are adopting the June 2007 interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 72 FR 34595-34596 on June 25, 2007.

Done in Washington, DC, this 18th day of September 2007.
Kevin Shea,
Acting Administrator, Animal and Plant Health Inspection Service.

[FR Doc. E7-18762 Filed 9-21-07; 8:45 am]

BILLING CODE 3410-34-P